DEPARTMENT OF JUSTICE

Office of Justice Programs

[OMB Number 1121-0243]

Agency Information Collection Activities: Extension of a Currently Approved Collection: Comments Requested

ACTION: 30-Day Notice of Information Collection Under Review: Extension of a currently approved collection—Grant Management System Online Application.

The Department of Justice (DOJ), Office of Justice Programs (OJP) will be submitting the following information collection request to the Office of Management and Budget (OMB) for review and approval in accordance with the Paperwork Reduction Act of 1995. The proposed collection information is published to obtain comments from the public and affected agencies. This proposed information collection was previously published in the Federal Register [Volume 72, Number 102, page 29550 on May 29, 2007] allowing for a 60-day comment period. The purpose of this notice is to allow for an additional 30 days for public comment until September 28, 2007. This process is conducted in accordance with 5 CFR 1320.10.

All comments, suggestions, or questions regarding additional information, to include obtaining a copy of the proposed information collection instrument with instructions, should be directed to Bruce Whitlock, (202) 353-1551, Office of The Chief Information Officer, Office of Justice Programs, Department of Justice, 810 Seventh Street, NW., Washington, DC 20531 or Bruce.W.Whitlock@usdoj.gov.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Grants Management System Online Application.

(3) Agency form number, if any, and the applicable component of the Department of Justice sponsoring the collection: There is no form number, Office of The Chief Information Officer, Office of Justice Programs, United States Department of Justice.

(4) Affected public who will be asked or required to respond, as well as a brief abstract: The primary respondents are State, Local or Tribal Governments applying for grants.

(5) An estimate of the total number of respondents and the amount of time estimated for an average respondent to respond: An estimated 7422 grantees will respond to Grants Management System Online Application and on average it will take each of them 15 hours to complete the 4 applications.

(6) An estimate of the total public burden (in hours) associated with the collection: The estimated public burden associated with this application is 111,330 hours.

If additional information is required contact: Ms. Lynn Bryant, Department Clearance Officer, United States Department of Justice, Justice Management Division, Policy and Planning Staff, Patrick Henry Building, Suite 1600, 601 D Street, NW., Washington, DC 20530.

Dated: August 23, 2007.
Lynn Bryant,
Department Clearance Officer, PRA, Department of Justice.

[FR Doc. E7-17101 Filed 8-28-07; 8:45 am]

BILLING CODE 4410-18-P